DEPARTMENT OF COMMERCE

International Trade Administration

[A-583-816]

Certain Stainless Steel Butt-Weld Pipe Fittings from Taiwan: Notice of Amended Final Results Pursuant to Final Court Decision

AGENCY: Import Administration, International Trade Administration, Department of Commerce.

SUMMARY: On June 14, 2005, in Alloy Piping Products, Inc., Flowline Division, et al. v. United States, Slip Op. 05-69, (“Alloy Piping II”), the Court of International Trade (“CIT”) affirmed the Department of Commerce's (the “Department”) Final Results of Determination Pursuant to Remand (“Remand Results”), dated February 14, 2005, and entered a judgment order. This litigation related to the Department's review of the antidumping order on certain stainless steel butt-weld pipe fittings from Taiwan, covering the period June 1, 1999, through May 31, 2000. See Certain Stainless Steel Butt-Weld Pipe Fittings Final Results of Antidumping Duty Administrative Review, 66 FR 65899, 65900, (December 21, 2001) (“Final Results”). As no further appeals have been filed and there is now a final and conclusive court decision in this action, we are amending the final results of review in this proceeding and we will instruct U.S. Customs and Border Protection (“CBP”) to liquidate entries subject to this review.

EFFECTIVE DATE: August 26, 2005.

FOR FURTHER INFORMATION CONTACT: Alex Villanueva, AD/CVD Operations, Office 9, Import Administration, International Trade Administration, U.S. Department of Commerce, 1401 Constitution Avenue, NW, Washington, DC 20230, telephone 202-482-3208, fax 202-482-9089.

SUPPLEMENTARY INFORMATION:

Background

Following publication of the Final Results, Alloy Piping Products, Inc., Flowline Division, Markovitz Enterprises, Inc., Gerlin Inc., and Taylor Forge Stainless Inc., (the “Petitioners”) and Ta Chen, filed a lawsuit with the CIT challenging the Department's findings. In Alloy Piping v. United States, Slip Op. 04-134, (CIT 2004) (“Alloy Piping I”), the CIT instructed the Department to (1) reopen the record, seek additional relevant information regarding employee bonuses, and recalculate the general and administrative (“G&A”) expenses of Ta Chen; and (2) reconsider Ta Chen's U.S. indirect selling expenses and to account for all of Ta Chen's U.S. selling expenses incurred during fiscal year 1999.

The Department complied with the CIT's remand instructions and issued its final results of redetermination pursuant to remand on February 14, 2005. See Final Results of Redetermination Pursuant to Remand (“Remand Results”). In the Remand Results, the Department reopened the record, sought additional relevant information regarding employee bonuses and recalculated the G&A expenses of Ta Chen to include bonuses to both employees and directors/supervisors. The Department also reconsidered Ta Chen's U.S. indirect selling expenses and determined that there was no need to add financial interest expenses to Ta Chen's U.S. indirect selling expenses. Thus, the Department did not change Ta Chen's U.S. indirect selling expenses. As a result of the remand determination, the antidumping duty rate for Ta Chen was decreased from 6.11 to 6.10 percent. The CIT did not receive comments from either the Petitioners or Ta Chen.

On June 14, 2005, the CIT affirmed the Department's findings in the Remand Results. Specifically, the CIT affirmed the Department's recalculation of the G&A expenses for Ta Chen and the Department's decision not to add financial interest expenses to Ta Chen's U.S. indirect selling expenses. See Alloy Piping II.

On July 1, 2005, consistent with the decision of the United States Court of Appeals for the Federal Circuit (“Federal Circuit”) in Timken Co. v. United States, 893 F. 2d 337 (Fed. Cir. 1990) (“Timken”), the Department notified the public that the CIT's decision was “not in harmony” with the Final Results. See Notice of Court Decision and Suspension of Liquidation: Certain Stainless Steel Butt-Weld Pipe Fittings from Taiwan, 70 FR 126 (July 1, 2005) (“Timken Notice”). No party has appealed the CIT's decision. As there is now a final and conclusive court decision in this action, we are amending our final results of review and we will instruct CBP to liquidate entries subject to this review.

Amended Final Results

Because no further appeals have been filed and there is now a final and conclusive decision in the court proceeding, we are amending the final results of administrative review of the antidumping order on certain stainless steel butt-weld pipe fittings from Taiwan for the period June 1, 1999, through May 31, 2000. The revised weight-averaged dumping margin are as follows:

Company | Margin (percent)
Ta Chen | 6.10

The Department will issue appraisement instructions directly to the CBP. The Department will instruct CBP to liquidate relevant entries covering the subject merchandise effective the date of publication of this notice.

This notice is issued and published in accordance with section 751(a)(1) of the Act.

Dated: August 18, 2005.
Ronald K. Lorentzen,
Acting Assistant Secretary for Import Administration.

[FR Doc. E5-4701 Filed 8-25-05; 8:45 am]

BILLING CODE 3510-DS-S